DEPARTMENT OF ENERGY

Federal Energy Regulatory Commission

Combined Notice of Filings #1

Take notice that the Commission received the following exempt wholesale generator filings:

Docket Numbers: EG16-145-000.

Applicants: Cimarron Bend Wind Project II, LLC.

Description: Self-Certification of EG or FC of Cimarron Bend Wind Project II, LLC.

Filed Date: 9/6/16.

Accession Number: 20160906-5366.

Comments Due: 5 p.m. ET 9/27/16.

Take notice that the Commission received the following electric rate filings:

Docket Numbers: ER16-1912-001.

Applicants: Southwest Power Pool, Inc.

Description: Tariff Amendment: Deficiency Response in ER16-1912—Out-of-Merit Energy Clarification to be effective 7/1/2016.

Filed Date: 9/6/16.

Accession Number: 20160906-5419.

Comments Due: 5 p.m. ET 9/27/16.

Docket Numbers: ER16-2285-001.

Applicants: Desert Wind Farm LLC.

Description: Tariff Amendment: Amendment to 1 to be effective 9/24/2016.

Filed Date: 9/6/16.

Accession Number: 20160906-5298.

Comments Due: 5 p.m. ET 9/27/16.

Docket Numbers: ER16-2462-001.

Applicants: Oregon Clean Energy, LLC.

Description: Tariff Amendment: Amendment to Application for MBR to be effective 10/21/2016.

Filed Date: 9/6/16.

Accession Number: 20160906-5299.

Comments Due: 5 p.m. ET 9/27/16.

Docket Numbers: ER16-2552-000.

Applicants: Municipal Energy of PA, LLC.

Description: Notice of Cancellation of Market-Based Rate Tariff of Municipal Energy of PA, LLC.

Filed Date: 9/6/16.

Accession Number: 20160906-5316.

Comments Due: 5 p.m. ET 9/27/16.

Docket Numbers: ER16-2553-000.

Applicants: Avista Corporation.

Description: § 205(d) Rate Filing: Avista Corp FERC Rate Schedule No. 184 extension to be effective 10/1/2016.

Filed Date: 9/6/16.

Accession Number: 20160906-5296.

Comments Due: 5 p.m. ET 9/27/16.

Docket Numbers: ER16-2554-000.

Applicants: Midcontinent Independent System Operator, Inc.

Description: § 205(d) Rate Filing: 2016-09-06_Order 809 True-up filing to be effective 11/5/2016.

Filed Date: 9/6/16.

Accession Number: 20160906-5297.

Comments Due: 5 p.m. ET 9/27/16.

Docket Numbers: ER16-2555-000.

Applicants: PJM Interconnection, L.L.C.

Description: § 205(d) Rate Filing: Queue Position X2-012/AA2-008, Service Agreement No. 3569 to be effective 8/4/2016.

Filed Date: 9/6/16.

Accession Number: 20160906-5369.

Comments Due: 5 p.m. ET 9/27/16.

Docket Numbers: ER16-2556-000.

Applicants: Hinson Power Company, LLC.

Description: Tariff Cancellation: Cancellation (Complete Tariff ID) to be effective 9/7/2016.

Filed Date: 9/7/16.

Accession Number: 20160907-5015.

Comments Due: 5 p.m. ET 9/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2016.
Nathaniel J. Davis, Sr.,
Deputy Secretary.

[FR Doc. 2016-22040 Filed 9-13-16; 8:45 am]

BILLING CODE 6717-01-P